DEPARTMENT OF LABOR

Employment and Training Administration

[ETA Handbook No. 384]

Unemployment Compensation for Ex-Servicemembers (UCX) Handbook; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workforce Security (OWS) is soliciting comments concerning the extension of the Unemployment Compensation for Ex-Servicemembers (UCX) Handbook, Number 384.

A copy of the proposed information collection request (ICR) can be obtained by contacting the office listed below in the addressee section of this notice or by accessing: http://www.doleta.gov/Performance/guidance/OMBControlNumber.cfm.

DATES: Written comments must be submitted to the office listed in the addressee section below on or before June 16, 2006.

ADDRESSES: Written comments on this notice may be mailed or delivered to Keith Ribnick, Office of Workforce Security (OWS), U.S. Department of Labor, Room S-4231, Frances Perkins Building, 200 Constitution Ave., NW., Washington, DC 20210, telephone (202) 693-3223 (this is not a toll-free number), fax number (202) 693-3975.

SUPPLEMENTARY INFORMATION:

I. Background

The UCX law (5 U.S.C. 8521-8523) provides for the payment of unemployment compensation to eligible ex-servicemembers separated from the military service. State workforce agencies (SWAs), through agreements with the Secretary of Labor, act as agents of the Secretary for the purpose of providing unemployment compensation to ex-servicemembers following the Department's regulations at 20 CFR 614 and guidelines in the Department's UCX Handbook. SWAs must be able to obtain certain military service information from each claimant filing for UCX benefits to enable them to determine eligibility for benefits. The forms ETA 841 and ETA 843 (and related instructions) contained in the UCX Handbook are necessary and utilized by SWAs for the purpose of obtaining this needed information.

The form ETA 841, which is in the current Office of Management and Budget (OMB) inventory of approved burden collection, has become an optional form and is no longer used by the majority of SWAs. Since the ETA 841 is rarely used, the burden is so minimal it cannot be determined; hence, no burden is being requested.

Information pertaining to a UCX claimant can only be obtained from the Federal Claims Control Center (FCCC) or the individual's military discharge form (DD Form 214) received from the appropriate branch of service. If the FCCC or the ex-servicemember does not have this information readily available, the most effective way to obtain this information is by use of the form ETA 843 which is prescribed by the Department of Labor for the SWAs' use. The completed ETA Form 843 is sent to the appropriate military branch to obtain an official copy of the DD Form 214 or to obtain clarification about information contained in an existing DD Form 214. Without this information, SWAs could not adequately determine the ex-servicemembers' eligibility for benefits and would not be able to properly administer the program.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and,

• Minimize the burden of the collection of information on those who are to respond, including through the use of appropriate automated, electronic, mechanical, or other technological collection techniques or other forms of information technology, e.g., permitting electronic submissions of responses.

Current Actions

This is a request for OMB approval under the Paperwork Reduction Act of 1995 (44 U.S.C. 3506(c)(2)(A)) of an extension to an existing collection of information previously approved and assigned OMB control No. 1205-0176. The current burden is based on an inventory of 105,958 UCX claims filed in fiscal year (FY) 2005. This request is based on same number of UCX claims filed in FY 2005 since it is estimated that approximately the same number of UCX claims will be filed in Fiscal Years 2006, 2007 and 2008. Fifty-three (53) SWAs utilize the ETA Form 843. The ETA Form 843 is used by SWAs only when it is necessary to obtain additional clarifying information from the military pertaining to the UCX claimant or to obtain a copy of the DD Form 214. It is estimated that only 5 percent (5,297) of the UCX claims filed will require use of the ETA Form 843. The ETA Form 843 maybe sent to any one of the four branches of military service (Army, Navy, Marines, and Air Force), the Coast Guard, or the National Oceanic Atmospheric Administration (NOAA). These latter two agencies are considered branches of military service for UCX purposes but are not under the jurisdiction of the Department of Defense.

Type of Review: Extension, without change.

Agency: Employment and Training Administration.

Title: Unemployment Compensation for Ex-Servicemembers (UCX) Handbook Number 384.

OMB Number: 1205-0176.

Agency Number: ETA Handbook # 384.

Recordkeeping: 3 years.

Affected Public: Federal Government, State workforce agencies and Individuals.

Total Respondents: 1.

Frequency: As needed.

Total responses: 5,297

Average Time Per Response: 1.0 minutes.

Estimated Total Burden Hours: 88 hours.

Total Burden Cost (capital/startup): $0.

Total Burden Cost (operating/maintaining): $747,138.

Comments submitted in response to this comment request will be summarized and/or included in the request for Office of Management and Budget approval of the information collection request; they will also become a matter of public record.

Dated: April 6, 2006.
Cheryl Atkinson,
Administrator, Office of Workforce Security.

[FR Doc. E6-5659 Filed 4-14-06; 8:45 am]

BILLING CODE 4510-30-P